DEPARTMENT OF ENERGY

Federal Energy Regulatory Commission

[Docket No. CP04-82-000]

El Paso Natural Gas Company; Notice of Petition for Abandonment of Service

March 24, 2004.

Take notice that on March 16, 2004, El Paso Natural Gas Company (El Paso), filed an application, pursuant to section 7(b) of the Natural Gas Act (NGA) and Section 157.5, et seq., of the Commission's regulations under the NGA, requesting permission and approval to abandon the firm transportation service provided to North Bailey Gas Farmers' Cooperative Society of Muleshoe, Texas (North Bailey) under the Transportation Service Agreement (TSA) dated September 1, 1992, between El Paso and North Bailey.

In its application, El Paso states that by letter dated December 11, 2003, North Bailey, an FT-2 shipper on El Paso's system, gave El Paso notification of its intention to terminate its TSA with El Paso. Consistent with the termination provisions of the TSA, El Paso acknowledged and concurred with North Bailey's request to terminate the TSA and notified North Bailey that upon securing the necessary authorization from the Commission, El Paso would terminate the aforementioned TSA. Accordingly, El Paso is seeking Commission permission and approval to abandon the firm transportation service provided to North Bailey.

Any person desiring to be heard or to protest said filing should file a motion to intervene or a protest with the Federal Energy Regulatory Commission, 888 First Street, NE., Washington, DC 20426, in accordance with sections 385.214 or 385.211 of the Commission's rules and regulations. All such motions or protests must be filed on or before the date as indicated below. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Comment Date: April 8, 2004.

Linda Mitry,
Acting Secretary.

[FR Doc. E4-702 Filed 3-30-04; 8:45 am]

BILLING CODE 6717-01-P